DEPARTMENT OF HOMELAND SECURITY

Coast Guard

[Docket No. USCG-2023-0292]

National Chemical Transportation Safety Advisory Committee; January 2024 Meeting

AGENCY: United States Coast Guard, Department of Homeland Security.

ACTION: Notice of open Federal advisory committee meeting.

SUMMARY: The National Chemical Transportation Safety Advisory Committee (Committee) will conduct a series of subcommittee meetings over two days in League City, TX, and a full committee meeting in Texas City, TX to discuss matters relating to the safe and secure marine transportation of hazardous materials. The subcommittee meetings will also be available by videoconference for those unable to attend in person, however the full committee meeting will be held in person only. All meetings will be open to the public.

DATES:

Meetings: National Chemical Transportation Safety Advisory Committee subcommittees will meet on Tuesday, January 30 and Wednesday, January 31, 2024, from 9 a.m. to 5 p.m. Central Standard Time (CST) each day. The full Committee will meet on Thursday, February 1, 2024, from 9 a.m. until 5 p.m. CST. Please note these meetings may close early if the Committee has completed its business.

Comments and supporting documents: To ensure your comments are reviewed by Committee members before the meeting, submit your written comments no later than January 16, 2024.

ADDRESSES: The subcommittee meetings will be held at INEOS Oligomers USA, 2600 South Shore Boulevard, Suite 400, League City, TX 77573, and the full committee meeting will be held at U.S. Coast Guard Marine Safety Unit Texas City, 3101 FM 2004, Texas City, TX 77591.

Pre-registration Information: Pre-registration is required for in-person access to the meeting or to attend the subcommittee meetings by videoconference. Public attendees will be required to pre-register no later than noon Eastern Standard Time on January 16, 2024, to be admitted to the meeting. In-person attendance may be capped due to limited space in the meeting venue, and registration will be on a first-come-first-served basis. To pre-register, contact Lieutenant Ethan Beard at Ethan.T.Beard@uscg.mil. You will be asked to provide your name, telephone number, email, company, or group with which you are affiliated (for subcommittee meetings only), and whether you wish to attend virtually or in person; if a foreign national, also provide your country of citizenship, passport country, country of residence, place of birth, passport number, and passport expiration date.

The National Chemical Transportation Safety Advisory Committee is committed to ensuring all participants have equal access regardless of disability status. If you require reasonable accommodation due to a disability to fully participate, please email Lieutenant Ethan Beard at Ethan.T.Beard@uscg.mil or call 202-372-1419 as soon as possible.

Instructions: You are free to submit comments at any time, including orally at the meetings as time permits, but if you want Committee members to review your comment before the meetings, please submit your comments no later than January 16, 2024. We are particularly interested in comments on the topics in the “Agenda” section below. We encourage you to submit comments through the Federal Decision Making Portal at https://www.regulations.gov. To do so, go to https://www.regulations.gov, type USCG-2023-0292 in the search box and click “Search”. Next, look for this document in the Search Results column, and click on it. Then click on the Comment option. If your material cannot be submitted using https://www.regulations.gov, contact the individual in the FOR FURTHER INFORMATION CONTACT section of this document for alternate instructions. You must include the docket number USCG-2023-0292. We do not redact personal information from comments which are posted at https://www.regulations.gov, so any personal information provided in a comment posted will be viewable by the public. You may wish to review the Privacy and Security Notice found via a link on the homepage of https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Lieutenant Ethan T. Beard, Alternate Designated Federal Officer of the National Chemical Transportation Safety Advisory Committee, telephone 202-372-1419, or email Ethan.T.Beard@uscg.mil.

SUPPLEMENTARY INFORMATION: Notice of the meeting of the National Chemical Transportation Safety Advisory Committee is in compliance with the Federal Advisory Committee Act, (Pub. L. 117-286, 5. U.S.C. ch. 10). The Committee is authorized by section 601 of the Frank LoBiondo Coast Guard Authorization Act of 2018 (Pub. L. 115-282, 132 Stat. 4192) and is codified in 46 U.S.C. 15101. The Committee operates under the provisions of the Federal Advisory Committee Act and 46 U.S.C. 15109. The Committee provides advice and recommendations to the Secretary of Homeland Security through the Commandant of the U.S. Coast Guard on matters related to the safe and secure marine transportation of hazardous materials. The subcommittees listed in the agenda below were established specifically to address open task statements and will be closed upon issuance of final report.

Agenda

Tuesday, January 30, 2024

Two subcommittees will meet to discuss the following task statements:

9 a.m.-noon CST

Task Statement 22-03: Recommendations on Testing Requirements for Anti-Flashback Burners for Vapor Control Systems.

1:30 p.m.-5 p.m. CST

Task Statement 21-01: Recommendations on Loading Limits of Gas Carriers and USCG Supplement to International Hazardous Zone Requirements.

Wednesday, January 31, 2024

Two subcommittees will meet to discuss the following task statements:

9 a.m.-noon CST

Task Statement 22-01: Recommendations to Support Reductions to Emissions and Environmental Impacts Associated with Marine Transport of Chemicals, Liquefied Gases and Liquefied Natural Gas (LNG).

1:30 p.m.-5 p.m. CST

Task Statement 22-02: Recommendations on Industry Best Practices and Regulatory Updates Related to the Maritime Transportation of Lithium Batteries.

The task statements and other subcommittee information are located at Homeport at the following address: https://homeport.uscg.mil/missions/federal-advisory-committees/national-chemical-transportation-safety-advisory-committee-(nctsac)/task-statements. The agenda for the discussion of each task statement will include the following:

(1) Introduction and review subcommittee task statement.

(2) Public comment period.

(3) Subcommittee discussion and preparation of any proposed recommendations for the full Committee meeting on February 1, 2024.

(4) Adjournment of meeting.

Thursday, February 1, 2024

The agenda for the National Chemical Transportation Safety Advisory Committee meeting on Thursday, February 1, 2024 is as follows:

(1) Call to order.

(2) Roll call and determination of quorum.

(3) Remarks from U.S. Coast Guard leadership.

(4) Chairman and Designated Federal Officer's remarks.

(5) Acceptance of June 15, 2023 meeting minutes and status of task items.

(6) Committee will review, discuss, and formulate recommendations on the following items:

a. Task Statement 21-01: Recommendations on Loading Limits of Gas Carriers and U.S. Coast Guard Supplement to International Hazardous Zone Requirements;

b. Task Statement 22-01: Recommendations to Support Reductions to Emissions and Environmental Impacts Associated with Marine Transport of Chemicals, Liquefied Gases and Liquefied Natural Gas (LNG);

c. Task Statement 22-02: Recommendations on Industry Best Practices and Regulatory Updates Related to the Maritime Transportation of Lithium Batteries;

d. Task Statement 22-03: Recommendations on Testing Requirements for Anti-Flashback Burners for Vapor Control Systems.

(7) Subcommittee recommendation discussion.

(8) Presentation of Task Statement 23-01: Recommendations to Update CG-ENG Policy Letter 02-15.

(9) Task statement tracking discussion.

(10) Public comment period.

(11) Set next meeting date and location.

(12) Adjournment of meeting.

A copy of all meeting documentation will be available at: https://homeportr.uscg.mil/missions/federal-advisory-committees/national-chemical-transportation-safety-advisory-committee-(nctsac)/committee-meetings no later than January 24, 2024. Alternatively, you may contact Lieutenant Ethan Beard as noted in the FOR FURTHER INFORMATION CONTACT section above.

Public comments or questions will be taken throughout the meetings as the Committee discusses the issues and prior to deliberations and voting. There will be a final public comment period at the end of meetings. Speakers are requested to limit their comments to two minutes. Contact the individual listed in the FOR FURTHER INFORMATION CONTACT section above, to register as a speaker.

Dated: December 22, 2023.
Jeffrey G. Lantz,
Director of Commercial Regulations and Standards.

[FR Doc. 2023-28753 Filed 12-28-23; 8:45 am]

BILLING CODE 9110-04-P